DEPARTMENT OF TRANSPORTATION

Federal Aviation Administration

14 CFR Part 71

[Docket No. FAA-2022-0216; Airspace Docket No. 19-AAL-63]

RIN 2120-AA66

Amendment of United States Area Navigation (RNAV) Route T-230; St. Paul Island, AK

AGENCY: Federal Aviation Administration (FAA), DOT.

ACTION: Final rule, delay of effective date.

SUMMARY: This action changes the effective date of a final rule published in the Federal Register on July 17, 2023, that amends the United States Area Navigation (RNAV) route T-230 in the vicinity of St. Paul Island, AK, in support of a large and comprehensive T-route modernization project for the state of Alaska. The effective date in the final rule was incorrectly stated as August 10, 2023. The correct effective date for Airspace Docket No. 19-AAL-63 is October 5, 2023.

DATES: The effective date of the final rule published on July 17, 2023 (88 FR 45329) is delayed until October 5, 2023. The Director of the Federal Register approved this incorporation by reference action under Title 1 Code of Federal Regulations part 51, subject to the annual revision of FAA Order JO 7400.11 and publication of conforming amendments.

FOR FURTHER INFORMATION CONTACT: Steven Roff, Rules and Regulations Group, Office of Policy, Federal Aviation Administration, 800 Independence Avenue SW, Washington, DC 20591; telephone: (202) 267-8783.

SUPPLEMENTARY INFORMATION:

Background

The FAA published a final rule for Docket No. FAA-2022-0216 in the Federal Register (88 FR 45329; July 17, 2023), that amended RNAV route T-230 in the vicinity of St. Paul Island, AK. The effective date in the final rule was incorrectly stated as August 10, 2023. The correct effective date for Airspace Docket No. 19-AAL-63 is October 5, 2023.

Delay of Effective Date

Accordingly, pursuant to the authority delegated to me, the effective date of the final rule, Airspace Docket 19-AAL-63, as published in the Federal Register on July 17, 2023 (88 FR 45329), FR Doc. 2023-15011, is hereby delayed until October 5, 2023.

Authority: 49 U.S.C. 106(f), 106(g); 40103, 40113, 40120; E.O. 10854, 24 FR 9565, 3 CFR, 1959-1963 Comp., P. 389.

Issued in Washington, DC, on July 27, 2023.
Karen L. Chiodini,
Acting Manager, Rules and Regulations Group.

[FR Doc. 2023-16317 Filed 8-1-23; 8:45 am]

BILLING CODE 4910-13-P